FEDERAL COMMUNICATIONS COMMISSION

47 CFR Part 73

[DA 05-2659; MB Docket No. 04-376; RM-11039]

Radio Broadcasting Services; Haven and Hutchinson, KS

AGENCY: Federal Communications Commission.

ACTION: Final rule.

SUMMARY: The Audio Division, at the request of Ad Astra per Aspera Broadcasting, Inc., reallots Channel 246C2 from Hutchinson to Haven, Kansas, and modifies Station KSKU(FM)'s license accordingly. See 69 FR 60344, October 8, 2004. Channel 246C2 can be allotted to Haven in compliance with the Commission's minimum distance separation requirements with a site restriction of 24.9 kilometers (15.5 miles) southeast at petitioner's requested site. The reference coordinates for Channel 246C2 at Haven are 37-47-47 North Latitude and 97-31-59 West Longitude.

DATES: Effective November 21, 2005.

FOR FURTHER INFORMATION CONTACT: Sharon P. McDonald, Media Bureau, (202) 418-2180.

SUPPLEMENTARY INFORMATION: This is a synopsis of the Commission's Report and Order, MB Docket No. 04-376, adopted October 4, 2005, and released October 6, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Kansas, is amended by removing Channel 246C2 at Hutchinson; and by adding Haven, Channel 246C2.

Federal Communications Commission.
John A. Karousos,
Assistant Chief, Audio Division, Media Bureau.

[FR Doc. 05-21299 Filed 10-25-05; 8:45 am]

BILLING CODE 6712-01-P